DEPARTMENT OF HEALTH AND HUMAN SERVICES

Centers for Disease Control and Prevention

Public Health Genetics Fellowship

Announcement Type: New.

Funding Opportunity Number: 04059.

Catalog of Federal Domestic Assistance Number: 93.283.

Key Dates:

Letter of Intent Deadline: November 26, 2003.

Application Deadline: December 22, 2003.

I. Funding Opportunity Description

Authority: This program is authorized under Sections 301, 317(C), and 317(G) of the Public Health Service Act, (42 U.S.C. Sections 241, 247b-4, and 247b-8, as amended).

Purpose: The purpose of the program is to establish a cooperative agreement for co-sponsoring a Public Health Genetics Fellowship Program for genetics professionals to be located at the Centers for Disease Control and Prevention (CDC), in Atlanta, GA or other CDC locations. The intent of this program is to introduce genetics professionals to opportunities in public health genetics through education, training and career-enhancing experiences.

Fellowship candidates will include genetics professionals who are at the doctoral (MD and PhD) and master's levels. Typical fellowships for genetics professionals who recently completed their training will be for a maximum of two years. For mid-career professionals, typical fellowships will be for one year, although appointments of less than one year may be made under special circumstances. Varying lengths of time for fellowship appointments will be considered on the basis of CDC and project needs.

This program addresses the “Healthy People 2010” focus areas of: Arthritis, Osteoporosis, and Chronic Back Conditions; Cancer; Chronic Kidney Disease; Diabetes; Disability and Secondary Conditions; Heart Disease and Stroke; HIV; Immunization and Infectious Diseases; Maternal, Infant, and Child Health; Mental Health and Mental Disorders; Nutrition and Overweight; Oral Health; Respiratory Diseases; and Vision and Hearing.

Measurable outcomes of the program will be in alignment with the following performance goal for CDC: To develop career opportunities for genetics professionals in association with the recipient organization to work across CDC program areas to improve knowledge concerning genetics-related disease and disability; and to identify causes and risk factors for these conditions in order to develop prevention strategies and evaluate their effectiveness.

Activities

Recipient activities for this program are as follows:

• In collaboration with CDC, assist with planning and implementation of a fellowship program for genetic professionals in public health. The target number of fellows for this project is up to two a year, although this may be increased if additional funds become available. This plan should include the recruitment, training and mentoring of fellows under the program.

• Provide a senior staff member to serve as co-director to lead fellowship recruitment and assist in the selection and mentoring of fellows.

• Identify and recruit fellowship candidates with expertise in appropriate topic areas and implement a recruitment plan through advertisements, announcements, professional associations, and complementary training programs.

• Assist CDC in the selection of candidates appropriate for the public health genetics fellowship program. Selection of candidates will be made by a committee comprised of members of the recipient organization in conjunction with CDC.

• Provide opportunities for fellows to present their fellowship work and participate in national networking, policy development conferences, and workshops to expand professional growth and skill levels.

• Provide salary and benefits commensurate with the background and experience for fellows selected in the program. This includes recipient support of related costs for the fellowships, including travel and training expenses; and for recipient staff salaries and related technical and administrative costs.

• Collect and report to CDC information on status of fellows for up to five years after completion of the fellowship program in order to assess the impact of the fellowship program on public health genetics.

In a cooperative agreement, CDC staff is substantially involved in the program activities, above and beyond routine grant monitoring. CDC Activities for this program are as follows:

• Assist in the development and implementation of the overall fellowship plan and training program. In that regard, CDC will provide a senior staff member to serve as fellowship co-director in the planning and conduct of the program.

• Provide formal and informal training opportunities to the recipient organization and the assigned fellows.

• Coordinate and facilitate the placement of fellows with appropriate advanced training opportunities at CDC.

• Provide supervisory and mentoring support to fellows to assure optimal developmental experiences under the fellowship assignments.

II. Award Information

Type of Award: Cooperative Agreement. CDC involvement in this program is listed in the Activities Section above.

Fiscal Year Funds: 2004.

Approximate Total Funding: $125,000. This funding level will be modified based on the number of fellowship positions available at CDC, and the capacity of the recipient to provide highly qualified candidates for the fellowship program.

Approximate Number of Awards: One.

Anticipated Award Date: March 1, 2004.

Budget Period Length: 12 months.

Project Period Length: Five years. Throughout the project period, CDC's commitment to continuation of awards will be conditioned on the availability of funds, evidence of satisfactory progress by the recipient (as documented in required reports), and the determination that continued funding is in the best interest of the Federal Government.

III. Eligibility Information

Eligible applicants: Assistance will be provided only to a national non-profit organization. This announcement is limited to national non-profit organizations since they would have the capacity to recruit and place doctoral and master's level professionals in career-enhancing programs outside the individual educational institution or place of employment. A national organization would also have the established ability to recruit throughout the nation.

Other Eligibility Requirements: If your application is incomplete or non-responsive to the requirements listed below, it will not be entered into the review process. You will be notified that your application did not meet the submission requirements.

CDC plans to make one award to a leading organization/institution which: (1) Has documented access to large number of doctoral students, genetics residents, and genetics professionals in a broad range of areas related to genetics and public health: including but not limited to; cytogenetics, molecular genetics, biochemical genetics, clinical genetics, genetic counseling, population genetics, and genetic epidemiology; and (2) demonstrates a well-established capacity through documented collaborations and affiliations with training programs such as genetic counseling training programs, genetics residencies, and association memberships to enable recruitment of highly qualified candidates for the fellowship program.

Cost Sharing or Matching: Matching funds are not required for this program.

Note: Title 2 of the United States Code Section 1611 states that an organization described in Section 501(c)(4) of the Internal Revenue Code that engages in lobbying activities is not eligible to receive Federal funds constituting an award, grant, or loan.

IV. Application and Submission Information

Letter of Intent (LOI)

CDC requests that you send a LOI if you intend to apply for this program. The LOI will be used only to gauge the level of interest in this program, and to allow CDC to plan the application review. Failure to submit a LOI does NOT preclude you from submitting an application. The LOI must be written in the following format:

• Maximum number of pages: Two.

• Font size: 12-point unreduced.

• Paper size: 8.5 by 11 inches.

• Page margin size: One-inch margins.

• Printed only on one side of page

• Single spaced

• Written in English, avoid jargon

The LOI must contain the following information: Name, address, and telephone number of the proposed Principal Investigator, number and title of this program announcement, names of other key personnel, designations of collaborating institutions and entities, and an outline of the proposed work, recruitment approach, and expected outcomes.

LOI Deadline Date: November 26, 2003.

LOI Submission Address: Submit your LOI by express delivery service, or e-mail to: Sonja Rasmussen, M.D., M.S., Associate Director for Science, National Center on Birth Defects and Developmental Disabilities, CDC, 1600 Clifton Road, Mailstop E-86, Atlanta, GA 30333, E-Mail Address: skr9@cdc.gov, Telephone: 404-498-3908.

How to Obtain Application Forms: To apply for this funding opportunity use application form PHS 5161. Forms, applications, and instructions are available on the CDC Web site, at the following Internet address: http://www.cdc.gov/od/pgo/forminfo.htm

If you do not have access to the Internet, or if you have difficulty accessing the forms on-line, you may contact the CDC Procurement and Grants Office Technical Information Management Section (PGO-TIM) staff at: 770-488-2700. Application forms can be mailed to you.

Content and Form of Submission: This program announcement is the definitive guide on application format, content, and deadlines. It supersedes information provided in the application instructions. If there are discrepancies between the application form instructions and the program announcement, adhere to the guidance in the program announcement.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm If your application form does not have a DUNS number field, please write your DUNS number at the top of the first page of your application, and/or include your DUNS number in your application cover letter.

You must submit a signed original and two copies of your application forms. The application should include a separate typed abstract of the proposal consisting of no more than one single-spaced page. The application should include a table of contents for the project narrative and all related attachments.

The application must include a project narrative with your application forms. Your narrative must be submitted in the following format:

• Maximum number of pages: 20. If your narrative exceeds the page limit, only the first pages which are within the page limit will be reviewed.

• Font size: 12 point unreduced

• Paper size: 8.5 by 11 inches

• Page margin size: one-inch margins

• Printed only on one side of page

• Single-spaced

• Held together only by rubber bands or metal clips; not bound in any other way.

Your narrative should address activities to be conducted over the entire project period, and must include the items cited under Evaluation Criteria.

Funding restrictions, which must be taken into account while writing your budget are that project funds cannot be used to supplant other available applicant or collaborating agency funds, for construction, or for lease or purchase of facilities or space.

If you are requesting indirect costs in your budget, you must include a copy of your indirect cost rate agreement. If your indirect cost rate is a provisional rate, the agreement must be less than 12 months from the application due date.

Guidance for completing your budget can be found on the CDC Web site, at the following Internet address: http://www.cdc.gov/od/pgo/funding/budgetguide.htm

Additional information may be included in the application appendices. The appendices will not be counted toward the narrative page limit. This additional information may include curriculum and resumes for key project staff, organizational charts, letters of support, etc.; and should be limited to those items relevant to the requirements of this announcement.

Submission Date, Time, and Address:

Application Deadline Date: December 22, 2003.

Application Submission Address: Submit your application by mail or express delivery service to: Technical Information Management—PA 04059, Procurement and Grants Office, 2920 Brandywine Road, Atlanta, GA 30341. Applications may not be submitted by fax or e-mail at this time.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

If you have a question about the receipt of your application, first contact your courier. CDC will not notify you by mail upon receipt of your application, but if you still have any-questions, contact the PGO-TIM staff at: 770-488-2700. Before calling, please wait three days after the application deadline. This will allow time for applications to be processed and logged.

Intergovernmental Review of Applications: Executive Order 12372 does not apply to this program.

V. Application Review Information

Review Criteria: You are required to provide measures of outcome and effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Under the evaluation criteria noted below, applicants must describe precisely how they will conduct the project toward identifying and recruiting fellows in conjunction with placement opportunities at CDC, what collaborators and national affiliations are now in place to facilitate such recruitment, and how the proposed work plan will assure effective conduct of all components of the work in a timely and successful manner.

Your application will be evaluated against the following criteria:

• Organizational experience that indicates the extent of current work in the training and development of genetics professionals, and the documented capacity to identify potential fellows for inclusion in this program. (35 Points)

• Convincing evidence of, and the extent to which national collaborations, affiliations, association memberships, and internal and external outreach systems are in place for immediate and effective fellowship recruitment and placement. (25 Points)

• Approach and methods to be utilized to conduct all aspects of the project as required under this announcement. (20 Points)

• Project timelines, work plan, and the performance measures to be employed and measured. (10 Points)

• Evaluation plan to assess individual components and the overall goals and objectives of the cooperative agreement. (10 Points)

• Budget (Not Scored). This criteria includes the degree to which the budget is reasonable, clearly justified, accurate, and consistent with the purposes of this announcement. The budget justification will not be counted in the stated page limit.

Review and Selection Process: An objective review panel will evaluate your application according to the criteria listed above.

VI. Award Administration Information

Award Notices: If your application is to be funded, you will receive a Notice of Grant Award (NGA) from the CDC Procurement and Grants Office. The NGA shall be the only binding, authorizing document between the recipient and CDC. The NGA will be signed by an authorized Grants Management Officer, and mailed to the recipient fiscal officer identified in the application.

Administrative and National Policy Requirements

45 CFR Part 74 and 92

For more information on the Code of Federal Regulations, see the National Archives and Records Administration at the following Internet address: http://www.access.gpo.gov/nara/cfr/cfr-table-search.html

The following additional requirements apply to this project:

• AR-9 Paperwork Reduction Act Requirements.

• AR-10 Smoke-Free Workplace Requirements.

• AR-11 Healthy People 2010.

• AR-12 Lobbying Restrictions.

• AR-14 Accounting System Requirements.

• AR-15 Proof of Non-Profit Status.

• AR-16 Security Clearance Requirement.

Additional information on these requirements can be found on the CDC Web site at the following Internet address: http://www.cdc.gov/od/pgo/funding/ARs.htm.

Reporting Requirements

You must provide CDC with an original, plus two copies of the following reports:

1. Interim progress report, no less than 90 days before the end of the budget period. The progress report will serve as your non-competing continuation application, and must contain the following elements:

a. Current budget period activities objectives.

b. Current budget period financial progress.

c. New budget period program proposed activity objectives.

d. Detailed line-item budget and justification.

e. Additional requested information.

2. Financial status report, no more than 90 days after the end of the budget period.

3. Final financial and performance reports, no more than 90 days after the end of the project period.

VII. Agency Contacts

For general questions about this announcement, contact: Technical Information Management Section (PGO-TIM), Procurement and Grants Office, 2920 Brandywine Road, Atlanta, GA 30341, Telephone: 770-488-2700.

For program technical assistance, contact: Sonja Rasmussen, M.D., M.S., Associate Director for Science, National Center on Birth Defects and Developmental Disabilities, CDC, 1600 Clifton Road, Mailstop E-86, Atlanta, GA 30333, E-Mail Address: skr9@cdc.gov, Telephone: 404-498-3908.

For budget assistance, contact: Susan Kiddo, Grants Management Officer, CDC Procurement and Grants Office, 2920 Brandywine Road, Atlanta, GA 30341, Telephone: 770-488-2605, E-mail: scb7@cdc.gov.

Dated: November 3, 2003.
Edward Schultz,
Acting Director, Procurement and Grants Office, Centers for Disease Control and Prevention.

[FR Doc. 03-28022 Filed 11-6-03; 8:45 am]

BILLING CODE 4163-18-P